DEPARTMENT OF ENERGY

Federal Energy Regulatory Commission

[Docket No. EC00-124-000, et al.]

Hartford Power Sales, L.L.C., et al.; Electric Rate and Corporate Regulation Filings

August 17, 2000.

Take notice that the following filings have been made with the Commission:

1. Hartford Power Sales, L.L.C.

[Docket No. EC00-124-000]

Take notice that on August 14, 2000, Hartford Power Sales, L.L.C. filed an application for an order authorizing the proposed transfer of the Power Sales Agreement by and between HPS and The Connecticut Light and Power Company to Select Energy, Inc.

Comment date: September 13, 2000, in accordance with Standard Paragraph E at the end of this notice.

2. Casco Bay Energy Company, LLC, et al.

[Docket No. EC00-125-000]

Take notice that on August 14, 2000, Casco Bay Energy Company, LLC, Duke Energy Oakland, LLC, Duke Energy Trenton, LLC, Duke Energy South Bay, LLC, Duke Energy Morro Bay, LLC, and Duke Energy Moss Landing, LLC (collectively the Applicants), filed a request for approval of the disposition of jurisdictional assets that may result from the transfer of the Applicants' limited liability company membership interests among the Applicants' upstream affiliates.

Comment date: September 5, 2000, in accordance with Standard Paragraph E at the end of this notice.

3. Ameren Energy, Inc., on behalf of Union Electric Company d/b/a AmerenUE, et al.

[Docket No. EC00-126-000]

Take notice that on August 14, 2000, Ameren Energy, Inc., on behalf of Union Electric Company d/b/a AmerenUE (AmerenUE), Ameren Energy Generating Company (AEG), and Ameren Energy Marketing Company (AEM) (collectively Applicants), filed an application pursuant to section 203 of the Federal Power Act (FPA), 16 U.S.C. 824b, and Part 33 of the Commission's regulations, requesting that the Commission approve the assignment of certain contracts between Ameren Energy, Inc. as agent for AmerenUE and AEM, so that such assignment would result in AEG being included with AmerenUE and AEM as a principal under such contracts.

Comment date: September 5, 2000, in accordance with Standard Paragraph E at the end of this notice.

4. The FirstEnergy Operating Companies

[Docket Nos. ER97-412-005, ER97-413-004, ER98-1932-002 and ER97-413-001]

Take notice that on August 11, 2000, the FirstEnergy Operating Companies tendered for filing a Supplemental Refund Report to reflect additional refunds made pursuant to the Commission's February 9, 2000 Letter Order in this proceeding.

The FirstEnergy Operating Companies state that a copy of the filing has been served on the customers receiving supplemental refunds and the public utilities commissions of Ohio and Pennsylvania.

Comment date: September 1, 2000, in accordance with Standard Paragraph E at the end of this notice.

5. Allegheny Energy Service Corporation, on behalf of Monongahela Power Company, et al.

[Docket No. ER00-3406-000]

Take notice that on August 14, 2000, Allegheny Energy Service Corporation on behalf of Monongahela Power Company, The Potomac Edison Company and West Penn Power Company (Allegheny Power), tendered for filing a Service Agreement Nos. 321 and 322 to add NRG Power Marketing Inc. to Allegheny Power's Open Access Transmission Service Tariff which has been accepted for filing by the Federal Energy Regulatory Commission in Docket No. ER96-58-000.

The proposed effective date under the Service Agreements is August 11, 2000 or a date ordered by the Commission.

Copies of the filing have been provided to the Public Utilities Commission of Ohio, the Pennsylvania Public Utility Commission, the Maryland Public Service Commission, the Virginia State Corporation Commission, and the West Virginia Public Service Commission.

Comment date: September 5, 2000, in accordance with Standard Paragraph E at the end of this notice.

6. Cinergy Services, Inc.

[Docket No. ER00-3407-000]

Take notice that on August 11, 2000, Cinergy Services, Inc. (Cinergy) and Cleco Utility Group, Inc. (CUG), are requesting via a Notice of Assignment that CUG will replace Cleco Corporation of Cinergy's Market-Based Power Sales Tariff Original Volume No. 7-MB, Service Agreement No. 223, dated May 3, 1999.

Cinergy and CUG are requesting an effective date of one day after filing.

Comment date: September 5, 2000, in accordance with Standard Paragraph E at the end of this notice.

7. Cinergy Services, Inc.

[Docket No. ER00-3409-000]

Take notice that on August 11, 2000, Cinergy Services, Inc., on behalf of its Operating Company affiliates, The Cincinnati Gas & Electric Company and PSI Energy, Inc. (COC), tendered for filing an executed service agreement between COC and TXU Energy Trading Company (TXU) replacing the unexecuted service agreement filed on April 16, 1999 under Docket No. ER99-2511-000 per COC FERC Electric Market-Based Power Sales Tariff, Original Volume No. 7-MB.

COC is requesting an effective date of May 1, 1999 and the same Rate Designation as per the original filing.

Comment date: September 5, 2000, in accordance with Standard Paragraph E at the end of this notice.

8. Cinergy Services, Inc.

[Docket No. ER00-3408-000]

Take notice that on August 11, 2000, Cinergy Services, Inc. (Cinergy) and Cleco Utility Group, Inc. (CUG), are requesting via a Notice of Assignment that CUG will replace Cleco Corporation of Cinergy's Cost-Based Power Sales Tariff Original Volume No. 6-CB, Service Agreement No. 220, dated May 3, 1999.

Cinergy and CUG are requesting an effective date of one day after filing.

Comment date: September 5, 2000, in accordance with Standard Paragraph E at the end of this notice.

9. Tucson Electric Power Company

[Docket No. ER00-3410-000]

Take notice that on August 14, 2000, Tucson Electric Power Company tendered for filing one (1) umbrella service agreement (for short-term firm service) pursuant to Part II of Tucson's Open Access Transmission Tariff, which was filed in Docket No. OA96-140-000.

The details of the service agreement is as follows:

(1) Umbrella Agreement for Short-Term Firm Point-to-Point Transmission Service dated as of July 26, 2000 by and between Tucson Electric Power Company and Arizona Public Service Company. Service commenced on July 26, 2000.

Comment date: September 5, 2000, in accordance with Standard Paragraph E at the end of this notice.

10. Otter Tail Power Company

[Docket No. ER00-3411-000]

Take notice that on August 11, 2000, Otter Tail Power Company (Otter Tail), tendered for filing its tariff sheet that indicates Otter Tail's open access transmission tariff incorporates Mid-Continent Area Power Pool's (MAPP) revised Line Loading Relief procedures, as discussed in MAPP's, Docket Nos. ER99-2469-001, et al.

Comment date: September 5, 2000, in accordance with Standard Paragraph E at the end of this notice.

11. Ameren Energy Generating Company

[Docket No. ER00-3412-000]

Take notice that on August 14, 2000, Ameren Energy Generating Company (AEG) tendered for filing requests for: (1) authorization to engage in the sale of electric energy and capacity at market-based rates, which would permit direct accounting of transactions on AEG's behalf consistent with approvals granted in prior Commission orders; (2) consistent with that authorization, approval of the amendment to a previously approved power supply agreement between AEG and Ameren Energy Marketing Company; and (3) certain blanket approvals and waivers of certain regulations promulgated under the FPA.

AEG seeks an effective date of August 15, 2000, for the market-based rate authorization and for the amended PSA, and an effective date of May 1, 2000, for the requested waivers of the Commission's informational and reporting requirements.

Copies of this filing were served on the affected state utility commissions.

Comment date: September 5, 2000, in accordance with Standard Paragraph E at the end of this notice.

12. Union Power Partners, L.P.

[Docket No. ER00-3417-000]

Take notice that on August 11, 2000, Union Power Partners, L.P. (Union Power), tendered for filing notice that effective August 12, 2000, FERC Electric Rate Schedule No. 1, effective May 2, 2000, and filed with the Federal Energy Regulatory Commission is to be canceled.

Comment date: September 1, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-21592 Filed 8-23-00; 8:45 am]

BILLING CODE 6717-01-P